Executive Order 14320 of July 23, 2025

Promoting the Export of the American AI Technology Stack

By the authority vested in me as President by the Constitution and the laws of the United States of America, including section 301 of title 3, United States Code, it is hereby ordered:

Section 1. Purpose. Artificial intelligence (AI) is a foundational technology that will define the future of economic growth, national security, and global competitiveness for decades to come. The United States must not only lead in developing general-purpose and frontier AI capabilities, but also ensure that American AI technologies, standards, and governance models are adopted worldwide to strengthen relationships with our allies and secure our continued technological dominance. This order establishes a coordinated national effort to support the American AI industry by promoting the export of full-stack American AI technology packages.

Sec. 2. Policy. It is the policy of the United States to preserve and extend American leadership in AI and decrease international dependence on AI technologies developed by our adversaries by supporting the global deployment of United States-origin AI technologies.

Sec. 3. Establishment of the American AI Exports Program. (a) Within 90 days of the date of this order, the Secretary of Commerce shall, in consultation with the Secretary of State and the Director of the Office of Science and Technology Policy (OSTP), establish and implement the American AI Exports Program (Program) to support the development and deployment of United States full-stack AI export packages.

(b) The Secretary of Commerce shall issue a public call for proposals from industry-led consortia for inclusion in the Program. The public call shall require that each proposal must:

(i) include a full-stack AI technology package, which encompasses:

(A) AI-optimized computer hardware (e.g., chips, servers, and accelerators), data center storage, cloud services, and networking, as well as a description of whether and to what extent such items are manufactured in the United States;

(B) data pipelines and labeling systems;

(C) AI models and systems;

(D) measures to ensure the security and cybersecurity of AI models and systems; and

(E) AI applications for specific use cases (e.g., software engineering, education, healthcare, agriculture, or transportation);

(ii) identify specific target countries or regional blocs for export engagement;

(iii) describe a business and operational model to explain, at a high level, which entities will build, own, and operate data centers and associated infrastructure;

(iv) detail requested Federal incentives and support mechanisms; and

(v) comply with all relevant United States export control regimes, outbound investment regulations, and end-user policies, including chapter 58 of title 50, United States Code, and relevant guidance from the Bureau of Industry and Security within the Department of Commerce.

(c) The Department of Commerce shall require proposals to be submitted no later than 90 days after the public call for proposals is issued, and shall consider proposals on a rolling basis for inclusion in the Program.

(d) The Secretary of Commerce shall, in consultation with the Secretary of State, the Secretary of Defense, the Secretary of Energy, and the Director of OSTP, evaluate submitted proposals for inclusion under the Program. Proposals selected by the Secretary of Commerce, in consultation with the Secretary of State, the Secretary of Defense, the Secretary of Energy, and the Director of OSTP, will be designated as priority AI export packages and will be supported through priority access to the tools identified in section 4 of this order, as consistent with applicable law.

Sec. 4. Mobilization of Federal Financing Tools. (a) The Economic Diplomacy Action Group (EDAG), established in the Presidential Memorandum of June 21, 2024, chaired by the Secretary of State, in consultation with the Secretary of Commerce and the United States Trade Representative, and as described in section 708 of the Championing American Business Through Diplomacy Act of 2019 (Title VII of Division J of Public Law 116-94) (CABDA), shall coordinate mobilization of Federal financing tools in support of priority AI export packages.

(b) I delegate to the Administrator of the Small Business Administration and the Director of OSTP the authority under section 708(c)(3) of CABDA to appoint senior officials from their respective executive departments and agencies to serve as members of the EDAG.

(c) The Secretary of State, in consultation with the EDAG, shall be responsible for:

(i) developing and executing a unified Federal Government strategy to promote the export of American AI technologies and standards;

(ii) aligning technical, financial, and diplomatic resources to accelerate deployment of priority AI export packages under the Program;

(iii) coordinating United States participation in multilateral initiatives and country-specific partnerships for AI deployment and export promotion;

(iv) supporting partner countries in fostering pro-innovation regulatory, data, and infrastructure environments conducive to the deployment of American AI systems;

(v) analyzing market access, including technical barriers to trade and regulatory measures that may impede the competitiveness of United States offerings; and

(vi) coordinating with the Small Business Administration's Office of Investment and Innovation to facilitate, to the extent permitted under applicable law, investment in United States small businesses to the development of American AI technologies and the manufacture of AI infrastructure, hardware, and systems.

(d) Members of the EDAG shall deploy, to the maximum extent permitted by law, available Federal tools to support the priority export packages selected for participation in the Program, including direct loans and loan guarantees (12 U.S.C.635); equity investments, co-financing, political risk insurance, and credit guarantees (22 U.S.C.9621); and technical assistance and feasibility studies (22 U.S.C. 2421(b)).

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Commerce.

THE WHITE HOUSE,

July 23, 2025.

[FR Doc. 2025-14218

Filed 7-25-25; 8:45 am]

Billing code 3510-DT-P